Title 3—

The President

Proclamation 7426 of April 12, 2001

Thomas Jefferson Day, 2001

By the President of the United States of America

A Proclamation

Our Nation's Founding Fathers overcame enormous obstacles to establish a system of government unequaled in history. We are the beneficiaries of their sacrifice, courage, and honor. But among these legendary patriots, Thomas Jefferson remains unique as the one who articulated the essential values and principles of American liberty and freedom. Today, we gather here to celebrate the birthday of Thomas Jefferson and to reflect on his enduring contributions to the United States and the world.

Few Americans have shaped our collective destiny as thoroughly and as originally as Thomas Jefferson. His achievements are breathtaking in their scope and diversity. Beyond his achievements in public life as Governor of Virginia, author of the Statute of Virginia for Religious Freedom, Secretary of State, third President of the United States, and founder of the University of Virginia, Jefferson was a scholar, author, naturalist, inventor, bibliophile, and architect.

As President, Jefferson supported the Lewis and Clark expedition and concluded the $15 million purchase of the Louisiana Territory from France. He sold his personal library to the Library of Congress to replace its collection destroyed by the British in the War of 1812.

Thomas Jefferson's crowning achievement, however, was the Declaration of Independence. As its primary author, Jefferson drafted an immortal document that altered the way the world viewed the relationship between government and the governed. Jefferson's assertion of “inalienable rights” including “life, liberty, and the pursuit of happiness” established the democratic standard by which our Nation would measure itself. Many other nations and peoples likewise strive to measure up to the standard set forth in the Declaration of Independence.

Thomas Jefferson's words are as thrilling and inspiring in 2001 as they must have been to his revolutionary allies in 1776. Our Nation has changed, our technology has progressed, but our basic love for liberty and freedom remains the same. As proud Americans, we must work together to maintain the vigor and strength of Jefferson's vision and to fulfill its promise of a better life for all our citizens. Doing this is our responsibility, and our gift, to the man who laid the foundation for what became the freest nation in the world.

NOW, THEREFORE, I, GEORGE W. BUSH, President of the United States of America, by virtue of the authority vested in me by the Constitution and laws of the United States of America, do hereby proclaim April 13, 2001, as Thomas Jefferson Day. I encourage all Americans to join in this celebration of Thomas Jefferson's achievements, and to learn more about his unique influence on our history, traditions, and values.

IN WITNESS WHEREOF, I have hereunto set my hand this twelfth day of April, in the year of our Lord two thousand one, and of the Independence of the United States of America the two hundred and twenty-fifth.

B

[FR Doc. 01-9675

Filed 4-16-01; 8:45 am]

Billing code 3195-01-P